DEPARTMENT OF THE INTERIOR

Bureau of Land Management

[WO-310-1310-PB-24 1A]

Submission to Office of Management and Budget—Information Collection, OMB Control Number 1004-0137

AGENCY: Bureau of Land Management, Interior.

ACTION: Notice and request for comments.

SUMMARY: In accordance with the Paperwork Reduction Act of 1995, the Bureau of Land Management (BLM) has submitted a request for an extension of an approved information collection to the Office of Management and Budget (OMB) for approval.

DATES: The OMB is required to respond to this request within 60 days but may respond after 30 days. Submit your comments to OMB at the address below by April 20, 2007.

ADDRESSES: Send comments to the OMB, Interior Department Desk Officer (1004-0137), at OMB-OIRA via e-mail OIRA_DOCKET@omb.eop.gov or via facsimile at (202) 395-6566. Also please send a copy of your comments to BLM via Internet and include your name, address, and ATTN: 1004-0137 in your Internet message to comments_washington@blm.gov or via mail to: U.S. Department of the Interior, Bureau of Land Management, Mail Stop 401LS, 1849 C Street, NW, ATTN: Bureau Information Collection Clearance Office (WO-630), Washington, DC 20240.

FOR FURTHER INFORMATION CONTACT: You may contact Shirlean Beshir to obtain copies and explanatory material on this information collection at (202) 452-5033. Persons who use a telecommunication device for the deaf (TDD) may call the Federal Information Relay Serice (FIRS) on 1-800-877-8330, 24 hours a day, seven days a week, to contact Ms. Beshir.

SUPPLEMENTARY INFORMATION: On June 9, 2006, the BLM published a notice in the Federal Register (71 FR 33479) requesting comments on the information collection. The comment period closed on August 8, 2006. The BLM did not receive any comments.

We are soliciting comments on the following:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Title: Onshore Oil and Gas Operation (43 CFR part 3160 through 3165).

OMB Control Number: 1004-0137.

Abstract: The BLM manages the exploration, development, production, and utilization of oil and gas operations on public lands according to the regulations at (43 CFR part 3160 through 3165). These regulations implement the following statutes:

(1) The Federal Oil and Gas Royalty Management Act of 1982 (30 U.S.C. et seq);

(2) The Mineral Leasing Act of 1920 (30 U.S.C. 181 et seq.);

(3) The Act of Augsut 7, 1947 (Mineral Leasing Act of Acquired Lands) (30 U.S.C. 351-359); and

(4) The National Environmental Policy Act of 1969. The BLM uses this information to approve oil and gas operations. In most cases, we do not require a specific form to collect the required information, since we generally gather the information through the course of industry operations.

Burden Estimate Per Form: We estimate the completion time for this form and non-form information that is submitted quarterly, monthly, on occasion, and annually to the BLM by the private sector as follows:

Burden hours information collected | Number of actions per year | Burden hours per action | Total annual burden hours
(a) Application for Permit to Drill (Form 3160-3) | 5,000 | 8 | 40,000
(b) Well Completion or Re-completion Report and Log (Form 3160-4) | 3,000 | 8 | 24,000
(c) Sundry Notices and Reports on Wells (Form 3160-5) | 34,000 | 8 | 272,000
(d) 43 CFR 3162.3-1(a); Well Spacing Program | 150 | 8 | 1,200
(e) 43 CFR 3162.3-1(e); Drilling Plans | 2,875 | 16 | 46,000
(f) 43 CFR 3162.3-4(a); Plug and Abandon for Water Injection | 1,200 | 8 | 9,600
(g) 43 CFR 3162.3-4(b); Plug and Abandon for Water Source | 1,200 | 8 | 9,600
(h) 43 CFR 3162.4-1(a) and 3162.7-5(d)(1); Schematic/Facility Diagrams | 2,350 | 8 | 18,800
(i) 43 CFR 3162.4-2(a); Drilling Tests, Logs, Surveys | 330 | 8 | 2,640
(j) 43 CFR 3162.4-3; Monthly report of operations | 90,000 | 8 | 720,000
(k) 43 CFR 3162.5-1(b); Disposal of Produced Water | 1,500 | 8 | 12,000
(l) 43 CFR 3162.5-1(c); Report of Spills, Discharges, or Other Undesirable Events | 200 | 8 | 1,600
(m) 43 CFR 3162.5-1(d); Contingency Plan | 50 | 32 | 1,600
(n) 43 CFR 3162.5-2(b); Direction Drilling | 165 | 8 | 1,320
(o) 43 CFR 3162.6; Well Markers | 300 | 8 | 2,400
(p) 43 CFR 3162.7-1(b); Approval and Reporting Oil in Pits | 520 | 8 | 4,160
(q) 43 CFR 3162.7-1(d); Additional Gas Flaring | 400 | 8 | 3,200
(r) 43 CFR 3162.7-5(b); Records for Seals | 90,000 | 8 | 720,000
(s) 43 CFR 3162.7-5(c); Site Security | 2,415 | 8 | 19,320
(t) 43 CFR 3164.1; Prepare Run Tickets | 90,000 | 8 | 720,000
(u) 43 CFR 3165.1(a); Application for Suspension | 100 | 16 | 1,600
(v) 43 CFR 3165.3(b); State Director Review | 10 | 8 | 80
Totals | 325,765 |  | 2,631,120

Annual Responses: 325,765.

Application Fee Per Response: 0.

Annual Burden Hours: 2,631,120.

Dated: March 15, 2007.
Ted R. Hudson,
Bureau of Land Management, Acting Division Chief Regulatory Affairs.

[FR Doc. 07-1361 Filed 3-20-07; 8:45 am]

BILLING CODE 4310-84-M